ENVIRONMENTAL PROTECTION AGENCY

[FRL-7606-3]

Notice of Availability of Draft National Pollution Discharge Elimination System (NPDES) General Permit for Discharges at Hydroelectric Generating Facilities in the States of MA and New Hampshire and Indian Lands in the State of Massachusetts

AGENCY: Environmental Protection Agency (EPA).

ACTION: Notice of availability of Draft NPDES General Permits MAG360000 and NHG360000: extension of comment period.

SUMMARY: In response to requests from sources that may be eligible for coverage under this general permit, EPA, Region 1 is extending the comment period for its Draft National Pollutant Discharge Elimination System (NPDES) general permit for specific discharges at Hydroelectric Generating Facilities to certain waters of the States of Massachusetts and New Hampshire and Indian Lands in the State of Massachusetts. The Notice of Availability for this General Permit was published in the Federal Register on Friday, November 28, 2003 (68 FR 66826).

DATES: The comment period is being extended from December 29, 2003 to January 16, 2004. Comments must be received or postmarked by midnight on January 16, 2004. Interested persons may submit comments on the draft general permit as part of the administrative record to the EPA-Region 1 at the address given below. Within the comment period, interested persons may also request in writing a public hearing pursuant to 40 CFR 124.12 concerning the draft general permit. All public comments or requests for a public hearing must be submitted to the address below.

ADDRESSES: Written comments may be hand delivered or mailed to: EPA-Region 1, Office of Ecosystem Protection (CPE), 1 Congress Street, Suite 1100, Boston, Massachusetts 02114-2023 and also sent via e-mail to wandle.bill@epa.gov. No facsimiles (faxes) will be accepted. The draft permit is based on an administrative record available for public review at EPA-Region 1, Office of Ecosystem Protection (CPE), 1 Congress Street, Suite 1100, Boston, Massachusetts 02114-2023. Copies of information in the record are available upon request. A reasonable fee may be charged for copying.

FOR FURTHER INFORMATION CONTACT: Additional information concerning the draft permit may be obtained between the hours of 8 a.m. and 4 p.m. Monday through Friday excluding holidays from: William Wandle, Office of Ecosystem Protection, Environmental Protection Agency, 1 Congress Street, Suite 1100 (CPE), Boston, MA 02114—2023, telephone: 617-918-1605, e-mail: wandle.bill@epa.gov

SUPPLEMENTARY INFORMATION: The draft general permit may be viewed over the Internet via the EPA-Region 1 Web site for dischargers in Massachusetts at http://www.epa.gov/ne/npdes/mass.html and for dischargers in New Hampshire at http://www.epa.gov/ne/npdes/newhampshire.html.

Dated: December 18, 2003.
Robert W. Varney,
Regional Administrator, USEPA, Region 1.

[FR Doc. 04-14 Filed 1-2-04; 8:45 am]

BILLING CODE 6560-50-P